COMMISSION ON CIVIL RIGHTS

Agenda and Notice of Public Meeting of the Nevada Advisory Committee

Notice is hereby given, pursuant to the provisions of the rules and regulations of the U.S. Commission on Civil Rights, that a conference call of the Nevada State Advisory Committee in the Western Region will convene at 10 a.m. (P.d.t.) and adjourn at 11 a.m., Friday, May 6, 2005. The purpose of the conference call is to orient new members and discuss a proposed project on the status of civil rights in Nevada.

This conference call is available to the public through the following call-in number: 1-800-473-7795, access code number 40185325. Any interested member of the public may call this number and listen to the meeting. Callers can expect to incur charges for calls not initiated using the provided call-in number or over wireless lines and the Commission will not refund any incurred charges. Callers will incur no charge for calls using the call-in number over land-line connections. Persons with hearing impairments may also follow the proceedings by first calling the Federal Relay Service at 1-800-977-8339 and providing the Service with the conference call number and access code.

To ensure that the Commission secures an appropriate number of lines for the public, persons are asked to register by contacting Thomas Pilla of the Western Regional Office, (213) 894-3437, by 3 p.m. on Thursday, May 5, 2005.

The meeting will be conducted pursuant to the provisions of the rules and regulations of the Commission.

Ivy L. Davis,
Acting Chief, Regional Programs Coordination Unit.

[FR Doc. 05-7594 Filed 4-14-05; 8:45 am]

BILLING CODE 6335-01-P